DEPARTMENT OF AGRICULTURE

Animal and Plant Health Inspection Service

[Docket No. APHIS-2010-0078]

Availability of an Environmental Assessment for a Biological Control Agent for Hawkweeds

AGENCY: Animal and Plant Health Inspection Service, USDA.

ACTION: Notice of availability and request for comments.

SUMMARY: We are advising the public that the Animal and Plant Health Inspection Service has prepared an environmental assessment relative to the control of hawkweeds (Hieracium spp.). The environmental assessment considers the effects of, and alternatives to, the release of the hawkweed gall wasp, Aulacidea subterminalis, into the continental United States as a biological control agent to reduce the severity of infestations of hawkweeds. We are making the environmental assessment available to the public for review and comment.

DATES: We will consider all comments that we receive on or before November 22, 2010.

ADDRESSES: You may submit comments by either of the following methods:

• Federal eRulemaking Portal: Go to http://www.regulations.gov/fdmspublic/component/main?main=DocketDetail&d=APHIS-2010-0078 to submit or view comments and to view supporting and related materials available electronically.

• Postal Mail/Commercial Delivery: Please send one copy of your comment to Docket No. APHIS-2010-0078, Regulatory Analysis and Development, PPD, APHIS, Station 3A-03.8, 4700 River Road Unit 118, Riverdale, MD 20737-1238. Please state that your comment refers to Docket No. APHIS-2010-0078.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Shirley A. Wager-Page, Chief, Pest Permitting Branch, Plant Health Programs, PPQ, APHIS, 4700 River Road Unit 133, Riverdale, MD 20737-1237; (301) 734-8453.

SUPPLEMENTARY INFORMATION:

Background

The Animal and Plant Health Inspection Service (APHIS) is proposing to issue permits for the release of the hawkweed gall wasp, Aulacidea subterminalis, into the continental United States for the biological control of hawkweeds (Hieracium pilosella, H. aurantiacum, H. floribundum, and H. flagellare).

Introduced hawkweeds are native to Europe and were probably introduced into the eastern United States during the 1800s. Introduced hawkweeds are highly competitive and relatively free of insects and pathogens in North America. These species outcompete native and desirable vegetation, limiting economic use of infested land and posing risks to threatened, endangered, and sensitive species.

Hawkweeds can be controlled through the application of chemical herbicides, mowing, cultural control, and the use of biological control organisms. The use of herbicides, while effective, is limited to relatively accessible sites and control is only temporary. Broadcast applications of herbicides could also have adverse impacts on nontarget vegetation if not carefully applied. Mowing prevents seed production but encourages faster vegetative spread. Cultural control includes the use of fertilizers to increase the competitive ability of more desirable species, but has no effect on dense patches of hawkweed. Currently, no organisms for the biological control of hawkweeds have been released in North America. Gall wasps cause abnormal outgrowths (galls) to form on hawkweeds. Under certain conditions, these galls may stress the plant, reducing competitive ability, seed production, and long-distance spread, which may result in a long-term, non-damaging method to control hawkweed.

Thus, a permit application has been submitted to APHIS for the purpose of releasing the hawkweed gall wasp, Aulacidea subterminalis, into the continental United States to control invasive hawkweeds. These permits would contain no special provisions or requirements concerning release procedures or mitigating measures.

APHIS' review and analysis of the proposed action are documented in detail in a draft environmental assessment (EA) titled “Field Release of the Gall Wasp, Aulacidea subterminalis (Hymenoptera: Cynipidae), for Biological Control of Invasive Hawkweeds (Hieracium spp.) in the Continental United States” (March 2010). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 5th day of October 2010.
Kevin Shea,
Acting Administrator, Animal and Plant Health Inspection Service.

[FR Doc. 2010-26467 Filed 10-20-10; 8:45 am]

BILLING CODE 3410-34-P